DEPARTMENT OF TRANSPORTATION

National Highway Traffic Safety Administration

[Docket No. NHTSA-2003-14621]

Impaired Driving Integrated Project Team (IPT) Plan

AGENCY: National Highway Traffic Safety Administration (NHTSA), DOT.

ACTION: Notice of availability of document.

SUMMARY: This notice announces the availability of NHTSA's high priority safety report describing the agency's current and planned activities to address impaired driving. The report is available from the Docket Management System, U.S. Department of Transportation, at http://dms.dot.gov or on NHTSA’ Web site at http://www.nhtsa.dot.gov/IPTReports.html. While the document is final, the agency is offering the public the opportunity to comment on the agency's planned impaired driving activities. The comments will be considered for future agency efforts.

DATES: Comments must be received no later than January 22, 2004.

ADDRESSES: You may submit comments identified by Impaired Driving DOT DMS Docket Number [NHTSA-2003-14621] by any of the following methods:

• Web Site: http://dms.dot.gov. Follow the instructions for submitting comments on the DOT electronic docket site.

• Fax: 1-202-493-2251. • Mail: Docket Management Facility; U.S. Department of Transportation, 400 Seventh Street, SW, Nassif Building, Room PL-401, Washington, DC 20590.

• Hand Delivery: Room PL-401 on the plaza level of the Nassif Building, 400 Seventh Street, SW, Washington, DC, between 9 a.m. and 5 p.m., Monday through Friday, except Federal Holidays.

Instructions: All submissions must include the agency name and docket number. Note that all comments received will be posted without change to http://dms.dot.gov, including any personal information provided.

Docket: For access to the docket to read background documents or comments received, go to http://dms.dot.gov at any time or to Room PL-401 on the plaza level of the Nassif Building, 400 Seventh Street, SW, Washington, DC, between 9 a.m. and 5 p.m., Monday through Friday, except Federal Holidays.

FOR FURTHER INFORMATION CONTACT: Jim Wright, National Highway Traffic Safety Administration, Room 5118, 400 Seventh Street, SW, Washington, DC 20590. Telephone: 202-366-2724 or Dee Williams, National Highway Traffic Safety Administration, Room 5208, 400 Seventh Street, SW, Washington, DC 20590. Telephone: 202-366-0498.

SUPPLEMENTARY INFORMATION: As a symptom of the larger substance abuse problem, impaired driving leaves thousands dead and injured each year, with a cost of billions to the nation. In 2002 alone, there was an estimated 17,419 alcohol-related motor vehicle deaths. Embedded within issues of alcoholism, underage and problem drinking, drug abuse, and illegal sale of alcohol and other drugs, the solutions to the impaired driving problem are complex, wide-ranging and expensive. NHTSA has made finding solutions to reduce impaired driving one of the agency's highest priorities. Initiatives the agency plans to pursue include:

(1) Priority Initiatives: National Level

a. Behavioral Modification Initiatives

Provide Leadership in Fostering Federal Agency Collaboration

Screening and Brief Intervention

Coordinated Mass Media Campaign

b. Motor Vehicle and Environmental Initiatives

Generate Vehicle-Based Solutions

Collaborate with the Federal Highway Administration to Promote Roadway-Based Solutions

(2) Priority Initiatives: State Program Needs

a. Countermeasures

High Visibility Law Enforcement

DWI Courts

DWI Prosecutors

Increase Efficiency of Offender Processing

Strong ABC Policy and Enforcement

Alternative Sanctions/Limitations on Pre-Conviction Diversion Programs

b. Infrastructure Needs

Promote Statewide Self-Sufficiency

Increase BAC Testing

Implement Model Impaired Driving Records System

Establish DWI Task Forces

Enact or Strengthen Effective Laws

NHTSA believes the initiatives described in this report will lead to both near-term and longer-term solutions to reducing impaired driving among the United States population.

In September 2002, NHTSA assembled integrated project teams (IPTs) to address four highway safety programs of special interest: safety belt use; impaired driving; vehicle compatibility; and vehicle rollover. The reports associated with vehicle compatibility and vehicle rollover were released in June 2003. The report on safety belt use was released in July 2003. All can be found on NHTSA's Web site at http://www.nhtsa.dot.gov/IPTReports.html and also on DOT's docket management system (DMS) at http://dms.dot.gov/. The docket numbers for each of the respective reports are as follows:

• Safety Belt Use—NHTSA-2003-14620;

• Impaired Driving—NHTSA-2003-14621;

• Rollover Mitigation—NHTSA-2003-14622; and

• Vehicle Compatibility—NHTSA-2003-14623.

Each document describes the safety problem and provides strategies the agency plans to pursue in addressing vehicle compatibility, increasing safety belt use, reducing impaired driving and mitigating rollover. Comments received will be evaluated and incorporated, as appropriate, into planned agency activities.

How Do I Prepare and Submit Comments?

Your comments must be written and in English. To ensure that your comments are correctly filed in the Docket, please include the Docket number of this document (NHTSA-2003-14621) in your comments.

Please send two paper copies of your comments to Docket Management or submit them electronically. The mailing address is U.S. Department of Transportation Docket Management, Room PL-401, 400 Seventh Street, SW, Washington, DC 20590. If you submit your comments electronically, log onto the Docket Management System Web site at http://dms.dot.gov and click on “Help & Information” or “Help/Info” to obtain instructions.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, send three copies of your complete submission, including the information you claim to be confidential business information, to the Chief Counsel, NCC-110, National Highway Traffic Safety Administration, Room 5219, 400 Seventh Street, SW, Washington, DC 20590. Include a cover letter supplying the information specified in our confidential business information regulation (49 CFR part 512).

In addition, send two copies from which you have deleted the claimed confidential business information to Docket Management, Room PL-401, 400 Seventh Street, SW, Washington, DC 20590.

Will the Agency Consider Late Comments?

In our response, we will consider all comments that Docket Management receives before the close of business on the comment closing date indicated above under DATES. To the extent possible, we will also consider comments that Docket Management receives after that date.

Please note that even after the comment closing date, we will continue to file relevant information in the Docket as it becomes available. Further, some people may submit late comments. Accordingly, we recommend that you periodically check the Docket for new material.

How Can I Read the Comments Submitted by Other People?

You may read the comments by visiting Docket Management in person at Room PL-401, 400 Seventh Street, SW, Washington, DC from 10 a.m. to 5 p.m., Monday through Friday.

You may also see the comments on the Internet by taking the following steps:

• Go to the Docket Management System (DMS) Web page of the Department of Transportation (http://dms.dot.gov).

• On that page, click on “search.”

• On the next page (http://dms.dot.gov/search/) type in the four-digit Docket number shown at the beginning of this document (14621). Click on “search.”

• On the next page, which contains Docket summary information for the Docket you selected, click on the desired comments. You may also download the comments.

Authority: 49 U.S.C. 30111, 30117, 30168; delegation of authority at 49 CFR 1.50 and 501.8.

Noble N. Bowie,
Associate Administrator for Planning, Evaluation & Budget.

[FR Doc. 03-30361 Filed 12-5-03; 8:45 am]

BILLING CODE 4910-59-P